DEPARTMENT OF ENERGY

10 CFR Parts 429 and 430

[Docket No. EERE-2014-BT-TP-0044]

RIN 1904-AD45

Energy Conservation Program: Test Procedure for Battery Chargers

Correction

In rule document 2016-11486, beginning on page 31827 in the issue of Friday, May 20, 2016, make the following corrections:

Appendix Y to Subpart B of Part 430 [Corrected]

1. On page 31844, in Appendix Y to Subpart B of Part 430, in Table 5.3, under the “Product Class” column head, in the “Rated Battery Energy (Ebatt) ** column, in the third row, the entry should read “<100 Wh”.

2. On the same page, in the same table, beneath the same column head, in the same column, in the fourth row, the entry should read “<100 Wh”.

3. On the same page, in the same table, beneath the same column head, in the same column, in the sixth row, the entry should read “100-3000 Wh”.

[FR Doc. C1-2016-11486 Filed 6-28-16; 8:45 am]

BILLING CODE 1505-05-D